DEPARTMENT OF STATE

[Public Notice 5618]

Bureau of Educational and Cultural Affairs (ECA) Request for Grant Proposals: Iraqi Young Leaders Exchange Program for Undergraduate Students

Announcement Type: New Cooperative Agreement.

Funding Opportunity Number: ECA/A/E/USS-07-IYL.

Catalog of Federal Domestic Assistance Number: 00.000.

Dates: Key Dates: Application Deadline: January 12, 2007.

Executive Summary: The Branch for the Study of the United States, Office of Academic Exchange Programs, Bureau of Educational and Cultural Affairs, announces an open competition for the “Iraqi Young Leaders Exchange Program for Undergraduate Students,” a series of six-week thematic institutes to take place at four different host institutions during the summers of 2007 and 2008. Accredited post-secondary education institutions in the United States and public and private non-profit organizations or consortia of organizations may submit proposals to cooperate with the Bureau in the administration and implementation of this program. Each institute should provide a group of 15-20 highly motivated Iraqi undergraduate students with an integrated and imaginatively designed academic program that includes structured classroom instruction in one of the following four themes: science and technology; media and journalism; entrepreneurship; and public policy. Each institute should incorporate a leadership component and integrate practical learning opportunities related to the institute's theme. In addition, each institute will include an educational travel program that will give participants a deeper understanding of U.S. culture and society. All participants will be expected to return to Iraq immediately following the conclusion of the program. The awarding of the grant for this program is contingent upon the availability of funds (prior year Economic Support Funds, which, at the time of this publication, are pending transfer to ECA for obligation).

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

In July 2006, President Bush announced the creation of the “Iraqi Young Leaders Exchange Program.” The Bureau of Educational and Cultural Affairs, Branch for the Study of the U.S., will administer this program. Recently graduated high school seniors and undergraduates completing the first and second years of university will participate in intensive, thematic institutes, which will enhance their understanding of the United States, while developing their leadership skills. The Branch will sponsor a total of 150 Iraqi undergraduate student leaders over a two-year period during the summers of 2007 and 2008. In each of these years, the institutes for the “Iraqi Young Leaders Exchange Program for Undergraduate Students” should provide 75 undergraduate student leaders, aged 18-20, with an integrated and imaginatively designed program through four institutes running concurrently at different U.S. host institutions. The program will consist of an academic component that includes leadership training and community service, as well as an educational travel component in the United States.

The principal objective of the institutes is to heighten the participants' awareness of the history and evolution of U.S. society, culture, values and institutions. All campus programs should include cultural enrichment activities and should actively engage American undergraduate or graduate student peers as mentors or escorts for the Iraqi students.

In addition to promoting a better understanding of the United States, an important objective of the institutes is to develop the participants' leadership and collective problem-solving skills. In this context, the academic program should include group discussions, training and exercises that focus on such topics as the essential attributes of leadership; teambuilding; effective communication; and management skills for diverse organizational settings. There should also be a community service component, whereby the students experience firsthand how not-for-profit organizations and volunteerism play a key role in American civil society.

Local site visits and educational travel to cities and other destinations outside the immediate area of the host institutions should provide opportunities to observe varied aspects of American life and discuss issues raised in the academic program. The program should also include opportunities for participants to meet American citizens from a variety of backgrounds, to interact with their American peers, and to speak to appropriate student and civic groups about their experiences and life in Iraq. ECA plans to award a single grant for the recruitment and administration of all institutes for the “Iraqi Young Leaders Exchange Program for Undergraduate Students.”

The Bureau is seeking detailed proposals for the institutes from U.S. not-for-profit organizations that will administer the institutes in collaboration with four different U.S. colleges, universities or other not-for-profit academic organizations, who will act as program host institutions. Applicant organizations may submit grant proposals requesting funds not exceeding $2,312,500 to implement a total of eight institutes between June and August 2007, and June and August 2008, or one institute per host institution each summer. Applicant organizations will be evaluated on the functionality of their partnerships with their four selected host institutions. Selected host institutions must have an established reputation in the field or discipline related to their specific program theme (i.e., science and technology; media and journalism; entrepreneurship; and public policy). Applicant organizations are also encouraged to partner with host institutions that together reflect the geographic diversity of the United States. The grantee organization will be ECA's primary point of contact in communicating with the four selected host institutions.

The grant recipient organization will recruit, screen, and nominate the exchange participants, in consultation with, but without reliance on the U.S. Embassy in Baghdad. The grantee organization should make every effort to recruit a balanced pool of male and female participants from across Iraq, who represent the ethnic, religious, and cultural diversity of the Iraqi population. The grantee organization will conduct a nation-wide recruitment campaign in Iraq that includes special provisions for the recruitment of female participants and participants from Southern Iraq. The grantee organization will prepare the students for both the content and the logistics of the exchange, and will be responsible for the entire cycle of each program to include: management of travel documents; international and domestic airline reservations for students; preparation and oversight of all programmatic components in the U.S.; and the provision of follow on activities and support for grantee alumni.

The Bureau of Educational and Cultural Affairs recognizes that the grantee organization will be conducting all Iraq-based activity in an inherently challenging working environment. As such, applicant organizations must provide a detailed plan for arranging all activities in the U.S. and Iraq directly or in collaboration with partner organizations, which must be identified in the proposal. This plan must also demonstrate the capacity to ensure the participants' security during all phases of Iraq-based activity.

The applicant should take into account that Iraqi student participants may have little or no prior knowledge of the United States and varying degrees of experience in expressing their opinions in a classroom setting, therefore, component activities will be tailored accordingly. Every effort should be made to encourage active student participation in all aspects of a program.

Program Design

The “Iraqi Young Leaders Exchange Program for Undergraduate Students” should consist of four intensive thematic academic programs, to be implemented each summer during 2007 and 2008 for a total of eight institutes, with approximately 75 participants per summer (i.e., 19 per institute). The program should be organized through a carefully integrated series of panel presentations, seminar discussions, debates, individual and group activities, lectures and reading assignments, as well as local site visits, regional educational travel, and participation in community service activities. In addition to host-college or university faculty and professionals from the region where the institutes take place (e.g., in government, media, religious and civic organizations), course presenters should include outstanding scholars and other professional experts from throughout the United States, as appropriate.

The institutes must not simply replicate existing or previous lectures, workshops, or group activities designed for American students. Rather, they should be a specially designed and well-integrated seminar that creatively combines lectures, discussions, readings, debates, local site visits and regional travel into a coherent whole. The grantee organization will be required to select four host institutions to develop a program that provides ample time and opportunity for discussion and interaction among students, lecturers and guest speakers, not simply standard lectures or broad survey reading assignments. Reading and writing assignments should be adjusted to the participants' knowledge of English.

Capacity of Administering Organization

U.S. applicant organizations or consortia must have the necessary capacity in the United States and Iraq to implement the program through either their own offices or partner institutions. Organizations may demonstrate their direct expertise, or they may partner with other organizations to best respond to the requirements outlined in the RFGP. Organizations that opt to work in sub-grant arrangements should clearly outline all duties and responsibilities of the partner organization, ideally in the form of sub-grant agreements and accompanying budgets.

Organizations or consortia applying for this grant must demonstrate their (or their partners') capacity for conducting projects of this nature.

Program Administration

The grantee organization should designate a project director who will oversee all Iraq and U.S. based activity, and serve as the primary liaison with ECA on program and administrative matters. There should also be an academic director at each host institution who will be present throughout the program to ensure the continuity, coherence and integration of all aspects of the academic program, including the educational travel program. In addition to the academic director(s), an administrative director or coordinator should be assigned at each host institution to oversee all student support services, including supervision of the program participants, budgetary, logistical, and other administrative arrangements. For the purposes of this program, it is important that the grantee organization also retain qualified U.S. undergraduate or graduate students as peer mentors or escorts who exhibit cultural sensitivity, an understanding of the program's objectives, and a willingness to accompany the students throughout the program sessions.

Iraq-based Activity

The grantee organization will demonstrate a capacity to work effectively in Iraq and manage the following activities in consultation with, but without reliance on the U.S. Embassy in Baghdad.

(1) Recruit, screen, and nominate 75 Iraqi undergraduate student leaders and an appropriate number of alternates for six-week programs in the United States during summer 2007, with a second cycle of recruitment for programs in the summer of 2008. Recruitment and nomination will be coordinated in consultation with, but without reliance upon the Public Affairs Section (PAS) at the U.S. Embassy in Baghdad.

(2) Assist selected participants in submitting J-1 visa applications via the electronic version of the application form (EVAF). Process DS-2019 forms and U.S. visa applications with sufficient lead-time to allow for visa interviews at the U.S. Embassy in Baghdad no later than 100 days before the beginning of travel to the United States.

(3) Provide orientations in a third country en route to the U.S., or in Washington, DC for all Iraqi undergraduate students chosen to participate.

(4) Provide international roundtrip travel arrangements to Washington, DC for participants.

(5) Create and manage an online communication portal for alumni to continue dialogue and carry out action plans that promote program objectives. The portal can also be used to track alumni addresses, and should take every precaution to safeguard student security.

Participants

Participants in the “Iraqi Young Leaders Exchange Program for Undergraduate Students” should be highly motivated and exemplary recently graduated high school seniors and those completing the first and second years at colleges, universities and teacher training institutions from across Iraq, who display leadership through academic achievement, community involvement, and extracurricular activities, and who demonstrate the willingness and preparedness to participate in this program. Their major fields of study will be varied, and will include the sciences, social sciences, humanities, education and business. All participants will have a good knowledge of English.

The grantee organization will recruit and recommend participants for selection to the appropriate institute in accordance with the applicant's qualifications and primary fields of interest. Confirmation of final selection will be made by ECA's Branch for the Study of the United States. Participants will be students aged 18-20 from across Iraq, who represent the ethnic, religious, and cultural diversity of the Iraqi population. Every effort should be made to select a balanced mix of male and female participants. The grantee organization should make a particular effort to recruit participants who are from non-elite or underprivileged backgrounds, from both rural and urban areas, and have had little or no prior experience in the United States or elsewhere outside of their home country. Applicant organizations must submit a detailed plan for conducting a nation-wide recruitment campaign that includes special provisions for the recruitment of female participants and participants from Southern Iraq.

Program Dates: The institutes, which should be a maximum of 44 days in length (including participant arrival and departure days), should begin in June 2007, with a similar cycle of programs in the summer of 2008.

Program Guidelines: It is essential that proposals provide a detailed and comprehensive narrative describing how the partner organizations and/or host institutions will achieve the objectives of the program. For host institutions, this includes listing the title, scope and content of each session, planned site visits, and how each session relates to each institute's theme. A syllabus must be included that indicates the subject matter for each lecture, panel discussion, group presentation or other activity. The syllabus should also confirm or provisionally identify proposed speakers, trainers, and session leaders, and clearly show how assigned readings will advance the goals of each session. A calendar of all program activities must be included in the proposal, as well as a description of plans for public and media outreach in connection with each institute. Overall, proposals will be reviewed on the basis of their coherence, clarity, and attention to detail.

Please note: In a cooperative agreement, the Branch for the Study of the United States is substantially involved in program activities above and beyond routine grant monitoring. The Branch will assume the following responsibilities for the institutes: confirm the final selection of participants in consultation with the U.S. Embassy in Baghdad; oversee the institutes through one or more site visits; debrief participants in Washington, D.C. and consult on the implementation of a four-day conclusion program in Washington, DC at the end of the institutes; and engage in follow-on communication with the participants after they return to their home countries. The Branch may require changes in the content or scope of activities of the institutes, either before or after the grant is awarded. The recipient will be required to obtain approval of any significant agenda/syllabus changes in advance of their implementation.

II. Award Information

Type of Award: Cooperative Grant. ECA's level of involvement in this program is listed under number I above.

Fiscal Year Funds: Prior year Economic Support Funds (ESF) which, at the time of this publication, are pending transfer to ECA for obligation.

Approximate Total Funding: $2,312,500.

Approximate Number of Awards: 1.

Anticipated Award Date: Pending availability of funds, March 1, 2007.

Anticipated Project Completion Date: August 2008.

Additional Information: Pending successful implementation of this program and the availability of funds in subsequent fiscal years, it is ECA's intent to renew this grant for one additional fiscal year in accordance with the original announcement.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a) Bureau grant guidelines require that organizations with less than four years experience in conducting international exchanges be limited to $60,000 in Bureau funding. ECA anticipates awarding one grant, in the amount not to exceed $2,312,500 to support program and administrative costs required to implement this exchange program. Therefore, applicant organizations with less than four years experience in conducting international exchanges are ineligible under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1 Contact Information To Request an Application Package:

Please contact the Branch for the Study of the United States, ECA/A/E/USS, U.S. Department of State, SA-44, 301 4th Street, SW., Washington, DC 20547; tel. (202) 453-8532; fax (202) 453-8533; e-mail: WalshBM@state.gov to request a Solicitation Package. Please refer to the Funding Opportunity Number ECA/A/E/USS-07-IYL located at the top of this announcement when making your request. Alternatively, an electronic application package may be obtained from grants.gov. Please see section IV.3f for further information.

The Solicitation Package contains the Proposal Submission Instruction (PSI) document, which consists of required application forms, and standard guidelines for proposal preparation.

It also contains the Project Objectives, Goals and Implementation (POGI) document, which provides specific information, award criteria and budget instructions tailored to this competition.

Please specify Brendan M. Walsh and refer to the Funding Opportunity Number ECA/A/E/USS-07-IYL located at the top of this announcement on all other inquiries and correspondence.

IV.2. To Download a Solicitation Package Via Internet: The entire Solicitation Package may be downloaded from the Bureau's Web site at http://exchanges.state.gov/education/rfgps/menu.htm, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the Solicitation Package. It contains the mandatory Proposal Submission Instructions (PSI) document “and the Project Objectives, Goals and Implementation (POGI) document” for additional formatting and technical requirements.

IV.3c. You must have nonprofit status with the IRS at the time of application.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3.d.1. Adherence to all regulations governing the J visa:

The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, recordkeeping, reporting and other requirements. The grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547; Telephone: (202) 203-5029; FAX: (202) 453-8640.

Please refer to Solicitation Package for further information.

IV.3d.2. Diversity, Freedom and Democracy Guidelines

Pursuant to the Bureau's authorizing legislation, programs must maintain a non-political character and should be balanced and representative of the diversity of American political, social, and cultural life. “Diversity” should be interpreted in the broadest sense and encompass differences including, but not limited to, ethnicity, race, gender, religion, geographic location, socioeconomic status, and physical challenges. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and are usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe your plans for overall program management, staffing, and coordination with each host institution and the Branch for the Study of the United States. The Branch considers these to be essential elements of your program; please be sure to give sufficient attention to them in your proposal. Please refer to the Technical Eligibility Requirements and the POGI in the Solicitation Package for specific guidelines.

IV.3e. Please take the following information into consideration when preparing your budget:

IV.3e.1. Applicants must submit a comprehensive budget for the entire program. There must be a summary budget as well as breakdowns reflecting both administrative and program budgets. Applicants may provide separate sub-budgets for each program component, phase, location, or activity to provide clarification.

IV.3e.2. Allowable costs for the program include the following:

(1) Institute staff salary and benefits.

(2) Advertisement of program, recruitment, and selection of participants.

(3) Participant housing and meals.

(4) Participant travel and per diem.

(5) Textbooks, educational materials and admissions fees.

(6) Honoraria for guest speakers .

Please refer to the Solicitation Package for complete budget guidelines and formatting instructions.

IV.3F. Application Deadline and Methods of Submission:

Application Deadline Date: January 12, 2007.

Reference Number: EAC/A/E/USS-07-IYL.

Methods of Submission: Applications may be submitted in one of two ways: (1) In hard-copy, via a nationally recognized overnight delivery service (i.e., DHL, Federal Express, UPS, Airborne Express, or U.S. Postal Service Express Overnight Mail, etc.), or

(2) electronically through http://www.grants.gov.

Along with the Project Title, all applicants must enter the above Reference Number in Box 11 on the SF-424 contained in the mandatory Proposal Submission Instructions (PSI) of the solicitation document.

IV.3f.1. Submitting Printed Applications.

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and (8) copies of the application should be sent to: U.S. Department of State, SA-44, Bureau of Educational and Cultural Affairs, Ref.: ECA/A/E/USS-07-IYL, Program Management, ECA/EX/PM, Room 534, 301 4th Street, SW., Washington, DC 20547.

IV.3f.2—Submitting Electronic Applications.

Applicants have the option of submitting proposals electronically through Grants.gov (http://www.grants.gov). Complete solicitation packages are available at Grants.gov in the “Find” portion of the system. Please follow the instructions available in the ‘Get Started’ portion of the site (http://www.grants.gov/GetStarted).

Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. Therefore, we strongly recommend that you not wait until the application deadline to begin the submission process through Grants.gov.

Direct all questions regarding Grants.gov registration and submission to: Grants.gov Customer Support, Contact Center.

Phone: 800-518-4726.

Business Hours: Monday-Friday, 7AM-9PM Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

IV.3f.3 Grant applicants may submit only one proposal for this competition. However, partner institutions and sub-grantee organizations are eligible for inclusion in multiple proposals provided they meet the criteria for eligible applicants as outlined under “Other Eligibility Requirements” in section III.3.a. of this announcement.

IV.3g. Intergovernmental Review of Applications: Executive Order 12372 does not apply to this program.

V. Application Review Information

V.1. Review Process. The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of Program Idea/Plan: Proposals should exhibit originality, substance, precision, and relevance to the Bureau's mission. Detailed agenda and relevant work plan should demonstrate substantive undertakings and logistical capacity.

2. Ability to Achieve Overall Program Objectives: Objectives should be reasonable, feasible, and flexible. Proposals should clearly demonstrate how the institution will meet the program's objectives and plan.

3. Support for Diversity: Proposals should demonstrate substantive support of the Bureau's policy on diversity. Achievable and relevant features should be cited in both program administration (program venue, study tour venue, and program evaluation) and program content (orientation and wrap-up sessions, site visits, program meetings and resource materials).

4. Evaluation and Follow-Up: Proposals should include a plan to evaluate the institute's success, both as the activities unfold and at the end of the program. A draft survey questionnaire or other technique plus description of a methodology to use to link outcomes to each institute's objectives is strongly recommended. Proposals should also discuss provisions made for follow-up with returned grantees as a means of establishing longer-term individual and institutional linkages.

5. Cost-effectiveness/Cost-sharing: The overhead and administrative components of the proposal, including salaries and honoraria, should be kept as low as possible. All other items should be necessary and appropriate. Proposals should maximize cost-sharing through other private sector support as well as institutional direct funding contributions.

6. Institutional Track Record/Ability: Proposals should demonstrate an institutional record of successful exchange programs, including responsible fiscal management and full compliance with all reporting requirements for past Bureau grants as determined by Bureau Grants Staff. The Bureau will consider the past performance of prior recipients and the demonstrated potential of new applicants. Proposed personnel and institutional resources should be fully qualified to achieve the institute's goals.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements: You must provide ECA with a hard copy original plus one (1) copy of the final program and financial report no more than 90 days after the expiration of the award.

Grantees will be required to provide reports analyzing their evaluation findings to the Bureau in their regular program reports. Please refer to Application and Submission Instructions (IV.3d.3) above for Program Monitoring and Evaluation information.

All data collected, including survey responses and contact information, must be maintained for a minimum of three years and provided to the Bureau upon request.

All reports must be sent to the ECA Grants Officer and ECA Program Officer listed in the final assistance award document.

VI.4. The organization awarded the grant will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Brendan M. Walsh, Bureau of Educational and Cultural Affairs, ECA/A/E/USS, Room 314, ECA/A/E/USS-07-IYL, U.S. Department of State, SA-44, 301 4th Street, SW., Washington, DC 20547, tel. (202) 453-8536; fax (202) 453-8533, e-mail: WalshBM@state.gov.

All correspondence with the Bureau concerning this RFGP should reference the above title and number “Iraqi Young Leaders Exchange Program for Undergraduate Students” and number (ECA/A/E/USS-07-IYL).

Please read the complete announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 16, 2006.
C. Miller Crouch,
Principal Deputy Assistant Secretary, Bureau of Educational and Cultural Affairs, Department of State.

[FR Doc. E6-19803 Filed 11-21-06; 8:45 am]

BILLING CODE 4710-05-P